SECURITIES AND EXCHANGE COMMISSION

17 CFR Part 249

[Release No. 34-104349]

Technical Amendments to Commission Forms

AGENCY: Securities and Exchange Commission.

ACTION: Final rule; technical amendments.

SUMMARY: The Securities and Exchange Commission (“Commission”) is adopting technical amendments to various forms under the Securities Exchange Act of 1934 (“Exchange Act”) to correct the address for the principal office of the Commission.

DATES: The amendments to the forms are effective December 11, 2025.

FOR FURTHER INFORMATION CONTACT: Justin Pica, Assistant Director, or Tyler Raimo, Assistant Director, Office of Market Supervision, at (202) 551-5500, Division of Trading and Markets, Securities and Exchange Commission, 100 F Street NE, Washington, DC 20549.

SUPPLEMENTARY INFORMATION: The Commission is amending the following forms:

Commission reference | CFR citation (17 CFR)
Forms, Securities Exchange Act of 1934:
Form 1 | § 249.1
Form 1-N | § 249.10
Form R31 | § 249.11
Form ATS | § 249.637
Form ATS-R | § 249.638
Form PILOT | § 249.821

The amendments make technical corrections to certain Commission forms with respect to the Commission's address in Washington DC, where the address appearing on a form was not updated when the Commission moved its principal office to 100 F Street NE, Washington, DC 20549. The text of these forms do not, and these amendments will not, appear in the Code of Federal Regulations.

Statutory Authority

We are adopting these technical amendments under the authority set forth in section 23(a) of the Exchange Act.

List of Subjects in 17 CFR Part 249

Brokers, Reporting and recordkeeping requirements, Securities.

Text of Amendments

For reasons set forth in the preamble, title 17, chapter II of the Code of Federal Regulations is amended as follows:

PART 249—FORMS, SECURITIES EXCHANGE ACT OF 1934

1. The authority for part 249 continues to read, in part, as follows:

Authority: 15 U.S.C. 78a et seq. and 7201 et seq.; 12 U.S.C. 5461 et seq.; 18 U.S.C. 1350; Sec. 953(b) Pub. L. 111-203, 124 Stat. 1904; Sec. 102(a)(3) Pub. L. 112-106, 126 Stat. 309 (2012), Sec. 107 Pub. L. 112-106, 126 Stat. 313 (2012), Sec. 72001 Pub. L. 114-94, 129 Stat. 1312 (2015), and secs. 2 and 3 Pub. L. 116-222, 134 Stat. 1063 (2020), unless otherwise noted.

* * * * *

2. Amend Form 1 (referenced in § 249.1) by, in section A.8 of the instructions, removing the text “450 Fifth Street NW, Washington, DC 20549” and adding, in its place, the text “100 F Street NE, Washington, DC 20549”.

Note: Form 1 will not appear in the Code of Federal Regulations.

3. Amend Form 1-N (referenced in § 249.10) by, in section A.8 of the instructions, removing the text “450 Fifth Street NW, Washington, DC 20549” and adding, in its place, the text “100 F Street NE, Washington, DC 20549”.

Note: Form 1-N will not appear in the Code of Federal Regulations.

4. Amend Form R31 (referenced in § 249.11) by, in section B.8 of the instructions, removing the text “450 Fifth Street NW; Washington, DC 20549-1105” and adding, in its place, the text “100 F Street NE, Washington, DC 20549”.

Note: Form R31 will not appear in the Code of Federal Regulations.

5. Amend Form ATS (referenced in § 249.637) and Form ATS-R (referenced in § 249.638) by, in section A.5 of the instructions, by removing the text “450 Fifth Street NW, Washington DC 20549-1002” and adding, in its place, the text “100 F Street NE, Washington, DC 20549”.

Note: Form ATS and Form ATS-R will not appear in the Code of Federal Regulations.

6. Amend Form PILOT (referenced in § 249.821) by, in section A.5 of the instructions, removing the text “450 Fifth Street NW, Washington, DC 20549” and adding, in its place, the text “100 F Street NE, Washington, DC 20549”.

Note: Form PILOT will not appear in the Code of Federal Regulations.

Dated: December 9, 2025.
J. Matthew DeLesDernier,
Deputy Secretary.

[FR Doc. 2025-22583 Filed 12-10-25; 8:45 am]

BILLING CODE 8011-01-P